DEPARTMENT OF THE INTERIOR

National Park Service

60-Day Notice of Intention To Request Clearance of Collection of Information; Opportunity for Public Comment

AGENCY: The Department of the Interior, National Park Service.

ACTION: Notice and request for comments.

SUMMARY: Under the provisions of the Paperwork Reduction Act of 1995 and 5 CFR part 1320, the National Park Service (NPS) invites public comments on an extension of a currently approved collection of information (OMB #1024-0126).

DATES: Public comments on this Information Collection Request (ICR) will be accepted on or before September 9, 2008.

ADDRESSES: Send comments to: Jo A. Pendry, NPS Concession Program Manager, 1849 C Street, NW. (2410), Washington, DC 20240; or via phone at 202/513-7156; or via fax at 202/371-2090; or via e-mail at jo_pendry@nps.gov. Also, you may send comments to Leonard E. Stowe, NPS Information Collection Clearance Officer, 1849 C St., NW. (2605), Washington, DC 20240; or via e-mail at leonard_stowe@nps.gov. All responses to this notice will be summarized and included in the request for the Office of Management and Budget (OMB) approval. All comments will become a matter of public record.

To Request a Draft of Proposed Collection of Information Contact: Jo A. Pendry, NPS Concession Program Manager, 1849 C St., NW. (2410), Washington, DC 20240; or via phone at 202/513-7156; or via fax at 202/371-2090; or via email at jo_pendry@nps.gov.

FOR FURTHER INFORMATION CONTACT: Erica Chavis, NPS Concessions Specialist, 1849 C St., NW (2410), Washington, DC 20240; or via phone at 202/513-7144; or via e-mail at erica_chavis@nps.gov. You are entitled to a copy of the entire ICR package free of charge once the package is submitted to OMB for review. You can access this ICR at http://www.reginfo.gov/public/.

SUPPLEMENTARY INFORMATION: Title: Proposed Sale of Concession Operations (36 CFR part 51, subpart J).

Bureau Form Number (s): None.

OMB Control Number: 1024-0126.

Expiration Date: April 30, 2009.

Type of Request: Extension of a currently approved collection of information.

Description of Need: The National Park Service (NPS) authorizes private businesses known as concessioners to provide necessary and appropriate visitor facilities and services in areas of the National Park System. Concession authorizations may be assigned, sold, transferred or encumbered by the concessioner subject to prior written approval of the NPS. The NPS requires that certain information be submitted for review prior to the consummation of any sale, transfer, assignment, or encumbrance.

16 U.S.C. 3 provides that no contract, lease, permit or privilege granted for the purpose of providing accommodations for visitors to the national parks shall be assigned or transferred by such grantees, permittees, or licenses without the approval of the NPS, first obtained in writing. It further provides that the NPS may authorize concessioners to execute mortgages and issue bonds, shares of stock, and other evidences or interest in or indebtedness upon their rights, properties and franchises, for the purposes of installing, enlarging, or improving plants and equipment and extending facilities for the accommodation of the public within national parks and monuments. 16 U.S.C. 20(3) also provides that the possessory interest of a concessioner may be assigned, transferred, encumbered, or relinquished. Regulations at 36 CFR, part 51, require that certain information be submitted for review by the NPS prior to the consummation of any sale, transfer, assignment or encumbrance.

The information requested is used to determine whether or not the proposed transaction will result in decreased services to the public, the lack of a reasonable opportunity for profit over the remaining term of the authorization, or rates in excess of existing approved rates to the public. In addition, pursuant to the regulations at 36 CFR, Part 51, the value of rights for intangible assets such as the concession contract, right of preference in renewal, user days, or low fees belong to the Government. If any portion of the purchase price is attributable either directly or indirectly to such assets, the transaction may not be approved. The amount and type of information to be submitted varies with the type and complexity of the proposed transaction. Without such information, the NPS would be unable to determine whether approval of the proposed transaction would be adequate. Concessioners' obligation to respond is required to retain or obtain benefits.

Automated data collection: No automated data collection will take place.

Description of respondents: Businesses or other for-profit, individuals or households, not-for-profit institutions.

Estimate average number of respondents: 20.

Estimated average time burden per respondent: 80 hours.

Estimated average number of responses: 20.

Frequency of response: Once per respondent.

Estimated total annual reporting burden: 1,600 hours.

Comments are invited on: (1) The practical utility of the information being gathered; (2) the accuracy of the burden hour estimate; (3) ways to enhance the quality, utility, and clarity of the information being collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Dated: June 10, 2008.
Leonard E. Stowe,
NPS, Information Collection Clearance Officer.

[FR Doc. E8-15592 Filed 7-10-08; 8:45 am]

BILLING CODE 4312-53-M